DEPARTMENT OF COMMERCE

National Oceanic and Atmospheric Administration

[I.D. 070904D]

Endangered Species; Permit File No. 1260

AGENCY: National Marine Fisheries Service (NMFS), National Oceanic and Atmospheric Administration (NOAA), Commerce.

ACTION: Receipt of application for modification.

SUMMARY: Notice is hereby given that the NMFS, Southeast Fisheries Science Center (SEFSC), 75 Virginia Beach Drive, Miami, FL 33149, has requested a modification to scientific research Permit No. 1260.

DATES: Written comments or requests for a public hearing must be received on or before August 16, 2004.

ADDRESSES: The modification request and related documents are available for review upon written request or by appointment in the following offices:

Permits, Conservation and Education Division, Office of Protected Resources, NMFS, 1315 East-West Highway, Room 13705, Silver Spring, MD 20910; phone (301)713-2289; fax (301)713-0376; and

Southeast Region, NMFS, 9721 Executive Center Drive North, St. Petersburg, FL 33702-2432; phone (727)570-5301; fax (727)570-5320.

Written comments or requests for a public hearing must be submitted to the Chief, Permits, Conservation and Education Division, F/PR1, Office of Protected Resources, NMFS, 1315 East-West Highway, Room 13705, Silver Spring, MD 20910. Those individuals requesting a hearing should set forth the specific reasons why a hearing on this modification request would be appropriate.

Comments may be submitted by facsimile to (301)713-0376, provided the facsimile is confirmed by hard copy submitted by mail and postmarked no later than the closing date of the comment period. They may also be submitted by e-mail. The mailbox address for providing e-mail comments is NMFS.Pr1Comments@noaa.gov. Include in the subject line of the e-mail comment the following document identifier: File No. 1260 Modification 6.

FOR FURTHER INFORMATION CONTACT: Patrick Opay, (301)713-1401 or Ruth Johnson, (301)713-2289.

SUPPLEMENTARY INFORMATION: The subject modification request to Permit No. 1260, issued on June 29, 2001 (66 FR 34621), is requested under the authority of the Endangered Species Act of 1973 as amended (16 U.S.C. 1531 et seq.) and the regulations governing the taking, importing, and exporting of endangered and threatened species (50 CFR 222-226).

Permit No. 1260 authorizes the SEFSC to take loggerhead (Caretta caretta), leatherback (Dermochelys coriacea), Kemp's ridley (Lepidochelys kempii), hawksbill (Eretmochelys imbricata), green (Chelonia mydas) and olive ridley (L. olivacea) sea turtles for scientific research. The SEFSC requests authorization to attach conventional or pop-up archival (PAT) tags on up to 15 leatherbacks which may be boated during the remainder of the Pelagic Longline Fishery Observers project. This tagging will not result in an increase in the number of animals taken as the SEFSC requests the activity be conducted on 15 of the leatherbacks that can already be sampled under the existing permit.

Additionally, the SEFSC requests that all projects under Permit No. 1260 include authority to handle, flipper and PIT tag, tissue sample and blood sample all turtles captured. The SEFSC also requests authority to have the option of deploying either PAT or conventional satellite tags via a tether attachment to the 20 loggerheads for which satellite tagging is already authorized under the existing Pelagic Longline Fishery Observers project. The SEFSC is currently authorized to deploy 20 conventional satellite tags using only the resin attachment method.

This modification will assist the SEFSC with its population assessment research of sea turtles. It will help the SEFSC obtain estimates of survival for juveniles and adults in their benthic and pelagic environments and will provide a more thorough understanding of the spatial population structure of these species. The research will help identify foraging grounds and migration corridors, as well as determine how both juveniles and adults utilize habitat and are distributed in space and time. The permit expires June 30, 2006.

Dated: July 9, 2004.
Tammy C. Adams,
Acting Chief, Permits, Conservation and Education Division, Office of Protected Resources, National Marine Fisheries Service.

[FR Doc. 04-16061 Filed 7-14-04; 8:45 am]

BILLING CODE 3510-22-S